FEDERAL COMMUNICATIONS COMMISSION

47 CFR Part 73

[DA 01-1242, MM Docket No. 99-347, RM-9751; RM-9761]

Radio Broadcasting Services; Exmore and Cheriton, VA, Fruitland, MD

AGENCY: Federal Communications Commission.

ACTION: Final rule.

SUMMARY: In this document, the Commission grants the request of Be-More Broadcasting (“Be-More”) to withdraw its petition for rule making to substitute Channel 291B for Channel 291B1 at Exmore, VA, reallot Channel 291B to Cheriton, VA, as its first local aural service, and modify its construction permit to specify Cheriton as its community of license. The Commission grants the request of Great Scott Broadcasting (“Great Scott”), licensee of Station WKHI(FM) (“WKHI”), to substitute Channel 298B1 for Channel 298B at Exmore, VA, reallot Channel 298B1 to Fruitland, MD, as its first local aural transmission service, and modify Station WKHI's license accordingly. The Notice of Proposed Rule Making, in this proceeding, 64 FR 70670 (December 17, 1999), included both Be-More's proposal and Great Scott's proposal because grant of both proposals would have resulted in Exmore, Virginia, losing its only local aural transmission service. The Commission conditioned the grant of program test authority for Great Scott's future facilities in Fruitland on Be-More's receipt of a license for its new FM station at Exmore, Virginia. The coordinates for Station WKHI's new location in Fruitland, Maryland, are: 38-11-32 North Latitude and 75-41-58 West Longitude.

DATES: Effective July 2, 2001.

FOR FURTHER INFORMATION CONTACT: R. Barthen Gorman, Mass Media Bureau, (202) 418-2180.

SUPPLEMENTARY INFORMATION: This is a synopsis of the Commission's Report and Order, MM Docket No. 99-347, adopted May 9, 2001, and released May 18, 2001. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Part 73 of Title 47 of the Code of Federal Regulations is amended as follows:

PART—RADIO BROADCAST SERVICES

1. The authority citation for Part 73 continues to read as follows:

Authority: 47 U.S.C. 154, 303, 334 and 336.

§ 73.202 [Amended]

2. Section 73.202(b), the Table of FM Allotments under Maryland, is amended by adding Fruitland, Channel 298B1.

3. Section 73.202(b), the Table of FM Allotments under Virginia, is amended by removing Channel 298B at Exmore.

Federal Communications Commission.
John A. Karousos,
Chief, Allocations Branch, Policy and Rules Division, Mass Media Bureau.

[FR Doc. 01-14019 Filed 6-4-01; 8:45 am]

BILLING CODE 6712-01-P